FEDERAL MARITIME COMMISSION

Notice of Meeting

Agency Holding the Meeting: Federal Maritime Commission.

Time and Date: May 14, 2008—10 a.m.

Place: 800 North Capitol Street, NW., First Floor Hearing Room, Washington, DC.

Status: A portion of the meeting will be in Open Session and the remainder of the meeting will be in Closed Session.

Matters To Be Considered

Open Session

1. FMC Agreement No. 201180: SSA Terminals (Seattle) Cooperative Working Agreement.

Closed Session

1. Direction to Staff Regarding Budget Hearing Committee Requests.

2. FMC FY 2008 Budget Status.

Contact Person for More Information: Karen V. Gregory, Assistant Secretary, (202) 523-5725.

Karen V. Gregory,
Assistant Secretary.

[FR Doc. E8-10560 Filed 5-13-08; 8:45 am]

BILLING CODE 6730-01-M